National Labor Relations Board

Appointments of Individuals To Serve as Members of Performance Review Board

5 U.S.C. 4314(c)(4) requires that appointments of individuals to serve as members of Performance Review Boards be published in the Federal Register. Therefore, in compliance with this requirement, notice is hereby given that the individuals whose names and position titles appear below have been appointed to serve as members of Performance Review Boards in the National Labor Relations Board for the rating year beginning October 1, 2008 and ending September 30, 2009.

Name and Title

William B Cowen, Solicitor;

Gloria J. Joseph, Director of Administration;

Barry J. Kearney, Associate General Counsel, Advice;

Gary W. Shinners, Deputy Chief Counsel to Board Member;

Richard A. Siegel, Associate General Counsel, Operations Management;

Lafe E. Solomon, Director, Office of Representation Appeals;

John H. Ferguson, Associate General Counsel, Enforcement Litigation (Alternate);

Kathleen Nixon, Deputy Chief Counsel to Board Member (Alternate).

Washington, DC, by Direction of the Board.
Dated: October 15, 2009.
Lester A. Heltzer,
Executive Secretary.

[FR Doc. E9-25215 Filed 10-20-09; 8:45 am]

BILLING CODE 7545-01-P